DEPARTMENT OF HEALTH AND HUMAN SERVICES

Administration for Children and Families

Submission for OMB Review; Comment Request

Title: Schedule UDC: Itemized Undistributed Collections.

OMB No.: New Collection.

Description: Although State child support enforcement agencies successfully collect and distribute billions of dollars every fiscal year, a certain portion of the collections remain undistributed. In some instances collections remain undistributed relatively briefly, pending the resolution of an assortment of administrative or legal processes; in other instances collections remain undistributed indefinitely as a result of circumstances beyond the State's control.

State agencies have requested the ability to differentiate and report to the Office of Child Support Enforcement (OCSE) the nature of those collections. In addition, in its recent report, the Government Accounting Office recommended that OCSE conduct periodic reviews of undistributed collection data to “* * * help improve the accuracy of the data.” (Report GAO-04-377, March 19, 2004, “Child Support Enforcement: Better Data and More Information on Undistributed Collections Are Needed”). This supporting schedule, which will be submitted quarterly as an attachment to Form OCSE-34A, the “Quarterly Report of Collections,” is being implemented to meet those requirements and will enable each state to differentiate and itemize its undistributed collections by category and age and will enable OCSE to review and analyze this information and to recommend management methodologies to reduce the undistributed collection balance.

Comments sent to the Office of Child Support Enforcement, both directly and in response to the Federal Register notice published October 8, 2003 (68 FR 58110, et seq.), provided many useful recommendations and suggestions to improve and clarify the wording of the instructions that accompany this form.

Respondents: State IV-D agencies administering the Child Support Enforcement Program under Title IV-D of the Social Security Act.

Annual Burden Estimates
Instrument | Number of respondents | Number of responses per respondent | Average burden hours per response | Total burden hours
Schedule UDC | 54 | 4 | 4 | 864

Estimated Total Annual Burden Hours: 864.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collections should be sent directly to the following: Office of Management and Budget, Paperwork Reduction Project, Attn: Desk Officer for ACF; E-mail address: katherine_t._astrich@omb.eop.gov.

Dated: July 19, 2004.
Robert Sargis,
Reports Clearance, Officer.

[FR Doc. 04-16886 Filed 7-26-04; 8:45 am]

BILLING CODE 4184-01-M